DEPARTMENT OF THE INTERIOR

Fish and Wildlife Service

Endangered and Threatened Species Permit Applications

ACTION: Notice of receipt of applications.

SUMMARY: The following applicants have applied for a scientific research permit to conduct certain activities with endangered species pursuant to section 10(a)(1)(A) of the Endangered Species Act of 1973, as amended (16 U.S.C. 1531, et seq.).

Permit No. TE-814933

Applicant: Texas Parks & Wildlife Department, Austin, Texas.

Applicant requests a permit to collect plant materials for research and recovery purposes from the following plant species within Texas: Ashy dogweed (Thymophylla tephroleuca), Black lace cactus (Echinocereus reichenbachii var. albertii), Bunched cory cactus (Coryphantha ramillosa), American chaffseed (Schwalbea americana), Chisos Mountains hedgehog cactus (Echinocereus chisoensis var. chisoensis), Davis'green pitaya (Echinocereus viridiflorus var. davisii), Hinckley Oak (Quercus hinckleyi), Johnston's frankenia (Frankenia johnstonii), Large-fruited sand-verbena (Abronia macrocarpa), Little Aguja pondweed (Potamogeton clystocarpus), Navasota ladies' tresses (Spiranthes parksii), Nellie cory cactus (Coryphantha minima), Pima pineapple cactus (Coryphantha scheeri var. robustispina), Slender rush-pea (Hoffmannseggia tenella), Sneed pincushion cactus (Coryphantha sneedii var. sneedii), South Texas ambrosia (Ambrosia cheiranthifolia), Star cactus (Astrophytum asterias), Terlingua Creek cat's eye (Cryptantha crassipes), Texas trailing phlox (Phlox nivalis ssp. Texensis), Texas ayenia (Ayenia limitaris), Texas poppy-mallow (Callirhoe scabriuscula), Texas prairie dawn-flower (Hymenoxys texana), Texas snowbells (Styrax texana), Tobusch fishhook cactus (Ancistrocactus tobuschii), Walker's manioc (Manihot walkerae), White bladderpod (Lesquerella pallida), and Zapata bladderpod (Lesquerella thamnophila). Applicant also requests authorization to conduct presence/absence surveys for the Ocelot (Felis pardalis), Southwestern willow flycatcher (Empidonax traillii extimus), Red-cockaded woodpecker (Picoides borealis), Northern aplomado falcon (Falco femoralis septentrionalis), Whooping Crane (Grus americana) and Interior least tern (Sterna antillarum) within Texas.

Permit No. TE-049001

Applicant: Plateau Integrated Land and Wildlife Management, Dripping Springs, Texas.

Applicant requests a permit to conduct presence/absence surveys and nest monitoring for the Golden-cheeked warbler (Dendroica chrysoparia) and Black-capped vireo (Viero atricapillus) within Texas.

Permit No. TE-050021

Applicant: Greg Clark, Chandler, Arizona.

Applicant requests a permit for recovery purposes to conduct presence/absence surveys for the Cactus Ferruginous Pygmy Owl (Glaucidium brasilianum) in Pima County, Arizona.

Permit No. TE-050241

Applicant: Carothers Environmental, LLC, Sedona, Arizona.

Applicant requests a permit for recovery purposes to conduct presence/absence surveys for the following species: Cactus ferruginous pygmy-owl (Glaucidium brasilianum cactorum), Southwestern willow flycatcher (Empidonax traillii extimus), Hualapai Mexican Vole (Microtus mexicanus hualpaiensis), Humpback chub (Gila cypha), Razorback sucker (Xyrauchen texanus), and Kanab ambersnail (Oxyloma haydeni kanabensis) within Arizona, New Mexico, Oklahoma and Texas.

DATES: Written comments on these permit applications must be received on or before January 4, 2002.

ADDRESSES: Written data or comments should be submitted to the Chief, Endangered Species Division, Ecological Services, P.O. Box 1306, Room 4102, Albuquerque, New Mexico 87103; (505) 248-6649; Fax (505) 248-6788. Documents will be available for public inspection by written request, by appointment only, during normal business hours (8 to 4:30) at the U.S. Fish and Wildlife Service, Albuquerque, New Mexico. Please refer to the respective permit number for each application when submitting comments. All comments received, including names and addresses, will become part of the official administrative record and may be made available to the public.

FOR FURTHER INFORMATION CONTACT: Chief, Endangered Species Division, Albuquerque, New Mexico, at the above address. Documents and other information submitted with these applications are available for review, subject to the requirements of the Privacy Act and Freedom of Information Act, by any party who submits a written request for a copy of such documents within 30 days of the date of publication of this notice, to the address above.

Susan MacMullin,
Assistant Regional Director, Ecological Services, Region 2, Albuquerque, New Mexico.

[FR Doc. 01-30053 Filed 12-4-01; 8:45 am]

BILLING CODE 4310-55-P